DEPARTMENT OF AGRICULTURE

Rural Housing Service

Rural Business-Cooperative Service

Notice of Request for Extension of a Currently Approved Information Collection

AGENCIES: Rural Housing Service (RHS), Rural Business-Cooperative Service (RBS), and Farm Service Agency (FSA), USDA.

ACTION: Proposed collection; comments requested.

SUMMARY: In accordance with the Paperwork Reduction Act of 1995, this notice announces the intention of the above-named Agencies to request an extension for a currently approved information collection in support of debt settlement of Community and Business Programs Loans.

DATES: Comments on this notice must be received by August 14, 2000, to be assured of consideration.

FOR FURTHER INFORMATION CONTACT: For inquiries on the Information Collection Package, contact Tracy Gillin, Regulations and Paperwork Management Branch, (202) 692-0039. For program content, contact Joseph Ben-Israel, Senior Loan Specialist, Community Programs, RHS, USDA, 1400 Independence Ave. SW, Mail Stop 0787, Washington, DC 20250-0787, Telephone (202) 720-1490, E-mail jbenisra@rdmail.rural.usda.gov.

SUPPLEMENTARY INFORMATION: Title: 7 CFR part 1956, subpart C Debt Settlement-Community and Business Programs.

OMB Number: 0575-0124.

Expiration Date of Approval: August 31, 2000.

Type of Request: Extension of a currently approved information collection.

Abstract: The following Community and Business Programs loans and grants are debt settled by this currently approved docket (0575-0124). The Community Facilities loan and grant program is authorized by Section 306 of the Consolidated Farm and Rural Development Act (7 U.S.C. 1926) to make loans to public entities, nonprofit corporations, and Indian tribes for the development of essential community facilities primarily serving rural residents.

The Economic Opportunity Act of 1964, title 3 (Pub. L. 88-452), authorizes Economic Opportunity Cooperative loans to assist incorporated and unincorporated associations to provide low-income rural families essential processing, purchasing, or marketing services, supplies, or facilities.

The Food Security Act of 1985, section 1323 (Pub. L. 99-198), authorizes loan guarantees and grants to Nonprofit National Corporations to provide technical and financial assistance to for-profit or nonprofit local businesses in rural areas.

The Business and Industry program is authorized by section 310 B (7 U.S.C. 1932) (Pub. L. 92-419, August 30, 1972) of the Consolidated Farm and Rural Development Act to improve, develop, or finance business, industry, and employment and improve the economic and environmental climate in rural communities, including pollution abatement and control.

The Consolidated Farm and Rural Development Act, section 310 B(c) (7 U.S.C. 1932(c)), authorizes Rural Business Enterprise Grants to public bodies and nonprofit corporations to facilitate the development of private businesses in rural areas.

The Consolidated Farm and Rural Development Act, section 310 B(f)(i) (7 U.S.C. 1932(c)), authorized Rural Cooperative Development Grants to nonprofit institutions for the purpose of enabling such institutions to establish and operate centers for rural cooperative development.

The Farm Service Agency (FSA) is authorized by 25 U.S.C. sections 488-494, to make loans through its Indian tribal land loan program to individuals, tribes, or tribal corporations within tribal reservations and Alaskan communities. The authority for FSA to make loans for grazing, irrigation and drainage, and farm ownership recreation loans is provided by the Consolidated Farm and Rural Development Act (7 U.S.C. 1926 sections 330-381).

The purpose of the debt settlement function for the above programs is to provide the delinquent client with an equitable tool for the compromise, adjustment, cancellation, or charge-off of a debt owed to the Agency. The information collected is similar to that required by a commercial lender in similar circumstances.

Information will be collected by the field offices from applicants, borrowers, consultants, lenders, and attorneys.

Failure to collect information could result in improper servicing of these loans.

Estimate of Burden: Public reporting burden for this collection of information is estimated to average 8.08 hours per response.

Respondents: Public bodies and nonprofit organizations.

Estimated Number of Respondents: 14.

Estimated Number of Responses per Respondent: 5.5.

Estimated Total Annual Burden on Respondents: 622 hours.

Copies of this information collection can be obtained from Tracy Gillin, Regulations and Paperwork Management Branch, (202) 692-0039.

Comments

Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Comments may be sent to Tracy Gillin, Regulations and Paperwork Management Branch, U.S. Department of Agriculture, Rural Development, STOP 0742, 1400 Independence Ave. SW., Washington, DC 20250. All responses to this notice will be summarized and included in the request for OMB approval. All comments will also become a matter of public record.

Dated: May 24, 2000.
James C. Kearney,
Administrator, Rural Housing Service.
Dated: May 10, 2000.
Dayton J. Watkins,
Administrator, Rural Business-Cooperative Service.
Dated: May 23, 2000.
Keith Kelly,
Administrator, Farm Service Agency.

[FR Doc. 00-14844 Filed 6-12-00; 8:45 am]

BILLING CODE 3410-XV-U